DEPARTMENT OF ENERGY

Federal Energy Regulatory Commission

[Docket No. CP15-513-000]

Texas Gas Transmission, LLC; Notice of Schedule for Environmental Review of the Northern Supply Access Project

On June 5, 2015, Texas Gas Transmission, LLC (Texas Gas) filed an application in Docket No. CP15-513 requesting a Certificate of Public Convenience and Necessity pursuant to section 7(c) of the Natural Gas Act to construct and operate certain natural gas pipeline facilities. The proposed project is known as the Northern Supply Access Project (Project), and would allow Texas Gas to provide an additional 384,000 million standard cubic feet per day of natural gas of north to south transportation capacity on Texas Gas's system while maintaining bi-directional flow capability on its system.

On June 17, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review
Issuance of EA | February 4, 2016.
90-day Federal Authorization Decision Deadline | May 4, 2016.

If a schedule change becomes necessary, additional notice will be provided so that the relevant agencies are kept informed of the Project's progress.

Project Description

Texas Gas proposes to construct, install, own, operate, and maintain the proposed Northern Supply Access Project, which would involve modifications at eight existing compressor stations in Morehouse Parish, Louisiana; Coahoma County, Mississippi; Tipton County, Tennessee; Webster, Breckinridge, and Jefferson Counties, Kentucky; and Lawrence and Dearborn Counties, Indiana. Texas Gas would also add one new 23,877 horsepower compressor station in Hamilton County, Ohio.

Background

On September 4, 2015, the Commission issued a Notice of Intent to Prepare an Environmental Assessment for the Proposed Northern Supply Access Project and Request for Comments on Environmental Issues (NOI). The NOI was sent to affected landowners; federal, state, and local government agencies; elected officials; environmental and public interest groups; Native American tribes; other interested parties; and local libraries and newspapers. In response to the NOI, the Commission received consultation letters from U.S. Fish and Wildlife Service, Tennessee Department of Environment and Conservation, and Mississippi, Kentucky and Indiana State Historic Preservation Officer. The Commission also received comments from the City of Harrison, Great Parks of Hamilton County, and the Allegheny Defense Project/Center for Biological Diversity/Fresh Water Accountability Project/Heartwood/Ohio Valley Environmental Coalition. The primary issues raised by the commentors focused on the environmental impacts of operating the new Harrison Compressor Station near residences and the Miami Whitewater Forest and the indirect/cumulative impacts of shale gas development.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-513), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 23, 2015.
Nathaniel J. Davis, Sr.,
Deputy Secretary.

[FR Doc. 2015-32829 Filed 12-29-15; 8:45 am]

BILLING CODE 6717-01-P